DEPARTMENT OF DEFENSE

Department of the Air Force

U.S. Air Force Exclusive Patent License

AGENCY: Air Force Research Laboratory Information Directorate, Department of the Air Force, DOD.

ACTION: Notice of intent to issue an exclusive patent license.

SUMMARY: Pursuant to the provisions of agency regulations, the Department of the Air Force announces its intention to grant The Curators of the University of Missouri, a public corporation of Missouri having a place of business at the Office of Technology Management and Industry Relations, 1601 S. Providence Road, #124, Columbia, Missouri 65211, an exclusive license in any right, title and interest the United States Air Force has in: In U.S. Patent Application No. 14/982,030 entitled “Method for Fast Camera Pose Refinement for Wide Area Motion Imagery”, filed December 19, 2015.

FOR FURTHER INFORMATION CONTACT: An exclusive license for this patent will be granted unless a written objection is received within fifteen (15) days from the date of publication of this Notice. Written objections should be sent to: Air Force Research Laboratory, Office of the Staff Judge Advocate, AFRL/RIJ, 26 Electronic Parkway, Rome, New York 13441-4514. Telephone: (315) 330-2087; Facsimile (315) 330-7583.

Henry Williams,
Acting Air Force Federal Register Liaison Officer.

[FR Doc. 2017-18052 Filed 8-24-17; 8:45 am]

BILLING CODE 5001-10-P